ELECTION ASSISTANCE COMMISSION

Notice of Federal Advisory Committee Charter Renewals

AGENCY: U.S. Election Assistance Commission.

ACTION: Notice of Federal Advisory Committee charter renewals.

SUMMARY: In accordance with the Federal Advisory Committee Act, the purpose of this notice is to announce that the Election Assistance Commission (EAC) has renewed the charters for the Board of Advisors, the Standards Board, and the Technical Guidelines Development Committee for a two-year period through April 13, 2023. The Board of Advisors, the Standards Board, and the Technical Guidelines Development Committee are federal advisory committees under the Federal Advisory Committee Act and created by the Help America Vote Act of 2002.

DATES: Renewed through April 13, 2023.

ADDRESSES: Election Assistance Commission, 633 3rd Street NW, Suite 200, Washington, DC 20001.

To Obtain a Copy of the Charters: A complete copy of the Charters are available from the EAC in electronic format. An electronic copy can be downloaded in PDF format on the EAC's website, http://www.eac.gov. In order to obtain a paper copy of the Charters, please mail your request to the U.S. Election Assistance Commission FACA Boards Management at 633 3rd Street NW, Suite 200, Washington, DC 20001. Please note that due to COVID-19 restrictions there are delays in processing mailed requests and responses.

FOR FURTHER INFORMATION CONTACT: Kevin Rayburn, General Counsel, at 866-747-1471 (toll free) or 301-563-3919. Email: facaboards@eac.gov.

SUPPLEMENTARY INFORMATION: The Board of Advisors, the Standards Board, and the Technical Guidelines Development Committee are federal advisory committees created by statute whose mission is to advise the EAC through review of the voluntary voting systems guidelines, review of voluntary guidance, and review of best practices recommendations. In accordance with the Federal Advisory Committee Act, Public Law 92-463, as amended, this notice advises interested persons of the renewal of these Charters.

Amanda Joiner,
Associate Counsel, U.S. Election Assistance Commission.

[FR Doc. 2021-10023 Filed 5-11-21; 8:45 am]

BILLING CODE P